DEPARTMENT OF AGRICULTURE

Farm Service Agency

7 CFR Parts 761

[Docket ID USDA-2019-0007]

RIN 0560-AA16

Farm Loan Programs, Debt Settlement

AGENCY: Farm Service Agency, USDA.

ACTION: Correcting amendments.

SUMMARY: The Farm Service Agency (FSA) amended the Farm Loan Programs Debt Settlement regulations in through a final rule published in the Federal Register on June 17, 2020. This correction is to remove a certain word that erroneously appeared in the regulation.

DATES: Effective: February 22, 2021.

FOR FURTHER INFORMATION CONTACT: Bill Cobb; telephone (202) 720-4671; email: Bill.Cobb@usda.gov. Persons with disabilities who require alternative means for communication should contact the USDA Target Center at (202) 720-2600 (voice).

SUPPLEMENTARY INFORMATION: This document corrects the regulations in 7 CFR part 761, which was implemented in the final rule that was published in the Federal Register on June 17, 2020 (85 FR 36670-36714). This correction is to remove the word “or” at the end of the sentence and to end the sentence with a period in 7 CFR 761.403(c)(3).

List of Subjects in 7 CFR Part 761

Accounting, Administrative practice and procedure, Loan programs-agriculture, Reporting and recordkeeping requirements, Rural areas.

Accordingly, 7 CFR part 761 is corrected by making the following correcting amendment:

PART 761—FARM LOAN PROGRAMS; GENERAL PROGRAM ADMINISTRATION

1. The authority citation for part 761 continues to read as follows:

Authority: 5 U.S.C. 301 and 7 U.S.C. 1989.

Subpart F—Farm Loan Programs Debt Settlement

2. Amend § 761.403 by revising paragraph (c)(3) to read as follows:

§ 761.403 General.

* * * * *

(c) * * *

(3) The debtor's account is involved in a fiscal irregularity investigation in which final action has not been taken or the account shows evidence that a shortage may exist and an investigation will be requested.

* * * * *

Steven Peterson,
Acting Administrator, Farm Service Agency.

[FR Doc. 2021-03186 Filed 2-19-21; 8:45 am]

BILLING CODE 3410-05-P